DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer at (240) 276-0361.

Project: 2022 National Survey on Drug Use and Health (OMB No. 0930-0110)

SAMHSA is requesting from the Office of Management and Budget (OMB) approval to administer the National Survey on Drug Use and Health (NSDUH), a survey of the U.S. civilian, non-institutionalized population aged 12 years old or older. NSDUH data are used to determine the prevalence of use of tobacco products, alcohol, illicit substances, and illicit use of prescription drugs. The results are used by SAMHSA, the Office of National Drug Control Policy (ONDCP), federal government agencies, and other organizations and researchers to establish policy, direct program activities, and better allocate resources.

As certain parts of the United States reduce COVID-19 restrictions, NSDUH in-person data collection will proceed where possible. However, to ensure sufficient data are collected to produce nationally representative estimates for the 2022 survey, NSDUH will continue to employ a mix of in-person and web-based modes of administration to allow those respondents living in areas with COVID-19 restrictions the opportunity to participate. If the COVID-19 pandemic subsides to such levels to allow in-person data collection to resume nationwide, SAMHSA may reassess that multimode data collection model as part of the 2022 NSDUH.

In those areas where in-person data collection is permitted, NSDUH protocols, processes, and materials will continue to reflect the need to ensure the safety of respondents and field interviewers with respect to COVID-19—after initial implementation of such measures beginning in October 2020—which include equipping field interviewers with masks, gloves, disinfecting wipes, and hand sanitizer for use during data collection and providing a COVID-19 risk information form to all respondents.

Unlike previous NSDUHs, a hybrid address-based sampling (ABS) design will be implemented for the 2022 NSDUH. ABS refers to the sampling of residential addresses from a list based on the U.S. Postal Service's Computerized Delivery Sequence file. In areas with high expected ABS coverage, the ABS frame will be used. In all other areas, traditional field enumeration will be used to construct the dwelling unit frames.

In addition, the NSDUH questionnaire must be updated periodically to reflect changing substance use and mental health issues and to continue producing current data. For the 2022 NSDUH, the following questionnaire updates are planned: (1) Replacing the tobacco module with a redesigned nicotine module that includes questions about vaping, removes low priority items to reduce respondent burden and eliminates outdated terminology; (2) revising the marijuana module to include questions about the use of CBD, update questions on the mode of administration and eliminate outdated terminology and includes changes to the market information for marijuana questions; (3) redesigning the adult and youth mental health services utilization modules into one Mental Health Service Utilization model to remove questions with outdated terminology and include questions about newer treatments with recent increases in popularity; and (4) replacing the drug treatment module with a redesigned alcohol and drug treatment module that includes questions about newer treatments and those that have increased in popularity, as well as eliminating outdated terminology and reducing respondent burden.

As with all NSDUH/NHSDA ¹ surveys conducted since 1999, the sample size of the NSDUH main study for 2022 will be sufficient to permit prevalence estimates for each of the fifty states and the District of Columbia. The total annual burden estimate for the NSDUH main study is shown below in Table 1.

¹ Prior to 2002, the NSDUH was referred to as the National Household Survey on Drug Abuse (NHSDA).

Table 1—Annualized Estimated Burden for 2022 NSDUH
Instrument | Number of respondents | Responses per respondent | Total number of responses | Hours per response | Total burden hours
Household Screening | 168,674 | 1 | 168,674 | 0.083 | 14,000
Interview | 67,507 | 1 | 67,507 | 1.000 | 67,507
Screening Verification | 5,060 | 1 | 5,060 | 0.067 | 339
Interview Verification | 10,126 | 1 | 10,126 | 0.067 | 678
Total | 168,674 |  | 251,367 |  | 82,524

Written comments and recommendations for the proposed information collection should be sent within 30 days of publication of this notice to www.reginfo.gov/public/do/PRAMain. Find this particular information collection by selecting “Currently under 30-day Review—Open for Public Comments” or by using the search function.

Carlos Graham,
Social Science Analyst.

[FR Doc. 2021-13937 Filed 6-29-21; 8:45 am]

BILLING CODE 4162-20-P